DEPARTMENT OF HEALTH AND HUMAN SERVICES

National Institutes of Health

National Institute of General Medical Sciences Amended; Notice of Meeting

Notice is hereby given of a change in the meeting of the National Institute of General Medical Sciences Special Emphasis Panel, July 15, 2016, 8:00 a.m. to July 15, 2016, 5:00 p.m., Embassy Suites at the Chevy Chase Pavilion, 4300 Military Road NW., Washington, DC 20015 which was published in the Federal Register on May 06, 2016, 81 FR 27455.

The meeting notice is amended to change the meeting date and time to July 29, 2016, 10:00 a.m. to 4:00 p.m.

The meeting is closed to the public.

Dated: July 6, 2016.
Melanie J. Gray,
Program Analyst, Office of Federal Advisory Committee Policy.

[FR Doc. 2016-16503 Filed 7-12-16; 8:45 am]

BILLING CODE 4140-01-P